DEPARTMENT OF HEALTH AND HUMAN SERVICES

National Institutes of Health

Prospective Grant of an Exclusive Patent License: Use of Tomentosenol in Treating or Preventing Skin Disorders

AGENCY: National Institutes of Health, HHS.

ACTION: Notice.

SUMMARY: The National Cancer Institute, an institute of the National Institutes of Health, Department of Health and Human Services, is contemplating the grant of an exclusive, sublicensable patent license to University of the Sunshine Coast (“USC”), a public university based on the Sunshine Coast, Queensland, Australia, in its rights to the inventions and patents listed in the SUPPLEMENTARY INFORMATION section of this notice.

DATES: Only written comments and/or applications for a license which are received by the National Cancer Institute's Technology Transfer Center on or before November 24, 2021 will be considered.

ADDRESSES: Requests for copies of the patent application, inquiries, and comments relating to the contemplated an Exclusive Patent License should be directed to: Rose M. Freel, Ph.D., Senior Licensing and Patenting Manager, NCI Technology Transfer Center, Telephone (301) 624-8775 or Email: rose.freel@nih.gov.

SUPPLEMENTARY INFORMATION: The following and all continuing U.S. and foreign patents/patent applications thereof are the intellectual properties to be licensed under the prospective agreement to USC: Australian Provisional Patent Application No. 2021902329, filed Aug 3, 2021, entitled “Use of tomentosenol in treating or preventing skin disorders” (HHS Ref. No. E-107-2021-0).

The patent rights in these inventions have been assigned to the Government of the United States of America and the University of the Sunshine Coast. The prospective patent license will be for the purpose of consolidating the patent rights to USC, one of the co-owners of said rights, for commercial development and marketing. Consolidation of these co-owned rights is intended to expedite development of the invention, consistent with the goals of the Bayh-Dole Act codified as 35 U.S.C. 200-212.

The prospective patent license will be worldwide, exclusive, and may be limited to those fields of use commensurate in scope with the patent rights. It will be sublicensable, and any sublicenses granted by USC will be subject to the provisions of 37 CFR part 401 and 404.

The invention pertains to tomentosenol A, a natural product that may be useful for treating, inhibiting, or preventing scar formation development or progression, reducing pre-existing scar tissue, and/or other fibrotic skin disorders. Based on current available data, the intended use for the invention is as a therapeutic in scar therapy, skin fibrosis, skin diseases, and inhibition of the proliferation or migration of skin cells.

This notice is made pursuant to 35 U.S.C. 209 and 37 CFR part 404. The prospective exclusive patent license will include terms for the sharing of royalty income with NCI from commercial sublicenses of the patent rights and may be granted unless within fifteen (15) days from the date of this published notice the NCI receives written evidence and argument that establishes that the grant of the license would not be consistent with the requirements of 35 U.S.C. 209 and 37 CFR part 404.

Complete applications for a license that are timely filed in response to this notice will be treated as objections to the grant of the contemplated exclusive patent license. In response to this Notice, the public may file comments or objections. Comments and objections, other than those in the form of a license application, will not be treated confidentially, and may be made publicly available.

License applications submitted in response to this Notice will be presumed to contain business confidential information and any release of information from these license applications will be made only as required and upon a request under the Freedom of Information Act, 5 U.S.C. 552.

Dated: November 3, 2021.
Richard U. Rodriguez,
Associate Director, Technology Transfer Center, National Cancer Institute.

[FR Doc. 2021-24445 Filed 11-8-21; 8:45 am]

BILLING CODE 4140-01-P